DEPARTMENT OF COMMERCE

National Oceanic and Atmospheric Administration

[I.D. 122106B]

Regional Fishery Management Council Chairs, Vice Chairs, and Executive Directors Meeting

AGENCY: National Marine Fisheries Service (NMFS), National Oceanic and Atmospheric Administration (NOAA), Commerce.

ACTION: Notice of a public meeting.

SUMMARY: NMFS will host a meeting of the Regional Fishery Management Council Chairs, Vice Chairs, and Executive Directors in January 2007. The intent of this meeting is to discuss issues of relevance to the Councils, including implementation of the FY 2007 budget, updates on NMFS initiatives on limited access programs, and issues related to implementation of the bill recently passed by Congress that would amend the Magnuson-Stevens Fishery Conservation and Management Act (Magnuson-Stevens Act).

DATES: The meeting will begin at 9 a.m. on Wednesday, January 10, 2007, recess at 5 p.m. or when business is complete; reconvene at 9 a.m. on Thursday, January 11, 2007, and adjourn by 5 p.m. or when business is complete; and reconvene at 9 a.m. on Friday, January 12, 2007, and adjourn by noon.

ADDRESSES: The meeting will be held at NOAA Headquarters, Room 4527, 1315 East-West Highway, Silver Spring, MD 20910.

FOR FURTHER INFORMATION CONTACT: William D. Chappell: telephone 301-713-2337 or e-mail at William.Chappell@noaa.gov; or Linda Moon: telephone 301-713-2337 or e-mail at Linda.Moon@noaa.gov.

SUPPLEMENTARY INFORMATION: The Magnuson-Stevens Fishery Conservation and Management Reauthorization Act of 2006 (HR 5946), when signed by the President, will establish the Council Coordinating Committee by amending Section 302 (16 U.S.C. 1852) of the Magnuson-Stevens Act. The committee consists of the chairs, vice chairs, and executive directors of each of the 8 Regional Fishery Management Councils authorized by the Magnuson-Stevens Act or other Council members or staff. NMFS will host this meeting and provide reports to the Committee for its information and discussion. The main topic of discussion will be implementation of the newly authorized Act. NMFS will also present and accept comments on its plans for implementing portions of the Act that will affect the Councils. Copies of the agenda may be obtained by calling 301-713-2337. Members of the public who wish to attend the meeting must call the previous number for entry into the building.

Special Accommodations

This meeting is physically accessible to people with disabilities. Requests for sign language interpretation or other auxiliary aids should be directed to Linda Moon at 301-713-2337 at least 5 working days prior to the meeting.

Dated: December 21, 2006.
Alan D. Risenhoover,
Director, Office of Sustainable Fisheries, National Marine Fisheries Service.

[FR Doc. E6-22110 Filed 12-26-06; 8:45 am]

BILLING CODE 3510-22-S